DEPARTMENT OF TRANSPORTATION

Office of the Secretary

[Docket No. DOT-OST-2015-0061]

Agency Information Collection Activities: Reinstatement of a Previously Approved Collection of Information

AGENCY: Office of the Secretary (OST), U.S. Department of Transportation (DOT).

ACTION: Notice and request for comments.

SUMMARY: The Department of Transportation (DOT) invites public comments on a request to the Office of Management and Budget (OMB) to approve the reinstatement of a previously approved Information Collection Request (OMB Control # 2105-0563) in accordance with the requirements of the Paperwork Reduction Act of 1995 (Pub L. 104-13, 44 U.S.C. 3501 et seq.).

The previous approval granted the Department of Transportation authority to collect information involving National Infrastructure Investments or TIGER Discretionary Grants pursuant to Title I of the Transportation, Housing and Urban Development, and Related Agencies Appropriations Act for 2010 (the “FY 2010 Appropriations Act). The Office of the Secretary of Transportation (“OST”) is referring to these grants as TIGER Discretionary Grants. The original collection of information was necessary in order to receive applications for grant funds pursuant to the Transportation, Housing and Urban Development, and Related Agencies Appropriations Act of 2010 (“FY 2010 Appropriations Act”), Title I—Department of Transportation, Office of the Secretary, National Infrastructure Investments, Public Law 111-117, 123 Stat. 3034. The purpose of the TIGER Discretionary Grants program is to advance projects that will have a significant impact on the Nation, Metropolitan area or a region.

This request for reinstatement advances the previously approved request of an information collection. The information to be collected will be used to, receive applications for grant funds, to evaluate the effectiveness of projects that have been awarded grant funds and to monitor project financial conditions and project progress in support of the National Infrastructure Investments, referred to by the Department as “Grants for Transportation Investment Generating Economic Recovery”, or “TIGER” Discretionary Grants program authorized and implemented pursuant to the American Recovery and Reinvestment Act of 2009 (the “Recovery Act”) (OMB Control Number: 2105-0563) and the grants for National Infrastructure Investments under the FY 2010 Appropriations Act or TIGER Discretionary Grant programs include promoting economic recovery and supporting projects that have a significant impact on the Nation, a metropolitan area, or a region.

A 60-day Federal Register notice was published on April 6, 2015 (FR 2015-07856). Since the publication of the 60-day Federal Register notice, no comments were received to the Docket (DOT-OST-2015-0061) and therefore no review of comments was required, so none was performed by the Department.

DATES: Written comments should be submitted by September 28, 2015.

ADDRESSES: You may submit comments [identified by Docket No. DOT-OST-2015-0061] to the DOT/OST Desk Officer through one of the following methods:

• Email: oira_submissions@omb.eop.gov.

• Fax: 1-202-395-5806—Attention: DOT/OST Desk Officer.

• Mail: Office of Information and Regulatory Affairs, Office of Management and Budget, Docket Library, Room 10102, 725 17th Street NW., Washington, DC 20503 with the associated OMB Control Number 2105-0563 and Dockets (DOT-OST-2011-0019).

FOR FURTHER INFORMATION CONTACT: Robert Mariner, U.S. Department of Transportation, Office of the Assistant Secretary for Transportation Policy, at 202-366-8914, or Robert.Mariner@dot.gov.

SUPPLEMENTARY INFORMATION:

OMB Control Number: 2105-0563

Title: National Infrastructure Investments Grant Program or TIGER Discretionary Grants.

Form Numbers: None

Type of Request: Reinstatement of a previously approved collection

Target Audience: Eligible Applicants” for TIGER Discretionary Grants are State, local, and tribal governments, including U.S. territories, transit agencies, port authorities, metropolitan planning organizations (MPOs), other political subdivisions of State or local governments, and multi-State or multi-jurisdictional groups applying through a single lead applicant (for multi-jurisdictional groups, each member of the group, including the lead applicant, must be an otherwise eligible applicant as described in this paragraph).

Estimated Number of Responses: 5,570.

Estimated Number of Respondents: 500.

Total Estimated Burden: $4,259,310 Costs.

Frequency: Quarterly, and Yearly.

Estimated Average Burden per Response: 8 hours for each request for Quarterly Progress and Monitoring Report; 8 hours for each Annual Budget Review; 8 hours for each Quarterly Performance Measurement Report.

Estimated Total Annual Burden: 144,070 hours.

Obligation to Respond: Required To Obtain Benefits.

The following is detailed information and instructions regarding the specific reporting requirements for each report identified above:

TIGER Discretionary Grant program grantees will submit a Project Progress and Monitoring Report and the Federal Financial Report (SF-425) to the Government on a quarterly basis. Grantees should use the following structure when preparing the quarterly Project Progress and Monitoring Report.

• Project Progress and Monitoring Report.

○ Frequency: Quarterly (on the 20th of the first month of the calendar quarter).

○ Report covers: Previous quarter, along with a two-quarter forecast.

○ Start: Upon award of grant.

○ End: Once construction is complete.

○ Format/Fields and accompanying instructions (beyond project ID information):

1. Executive Summary.—A clear and concise summary of the current status of the project, including identification of any major issues that have an impact on the project's scope, budget, schedule, quality, or safety, including:

• Current total project cost (forecast) vs. latest budget vs. baseline budget. Include an explanation of the reasons for any deviations from the approved budget.

• Current overall project completion percentage vs. latest plan percentage.

• Any delays or exposures to milestone and final completion dates. Include an explanation of the reasons for the delays and exposures.

• A summary of the projected and actual dates for notices to proceed for significant contracts, start of construction, start of expenditure of TIGER Discretionary Grant funds, and project completion date. Include an explanation of the reasons for any discrepancies from the corresponding project milestone dates included in the Agreement.

• Any Federal obligations and/or TIFIA disbursements occurring during the month versus planned obligations or disbursements.

• Any significant contracts advertised, awarded, or completed.

• Any significant scope of work changes.

• Any significant items identified as having deficient quality.

• Any significant safety issues.

• Any significant Federal issues such as environmental compliance, Buy America/Buy American (whichever is applicable to this Project), Davis Bacon Act Prevailing Wage requirements, etc.

2. Project Activities and Deliverables.—Highlighting the project activities and deliverables occurring during the previous quarter (reporting period), and (2) define the activities and deliverables planned for the next two reporting periods. Activities and deliverables to be reported on should include meetings, audits and other reviews, design packages submitted, advertisements, awards, construction submittals, construction completion milestones, submittals related to Recovery Act requirements, media or Congressional inquiries, value engineering/constructability reviews, and other items of significance. The two reporting period “look ahead schedule” will enable the Government to accommodate any activities requiring input or assistance.

3. Action Items/Outstanding Issues.—Drawing attention to, and tracking the progress of, highly significant or sensitive issues requiring action and direction in order to resolve. In general, issues and administrative requirements that could have a significant or adverse impact to the project's scope, budget, schedule, quality, safety, and/or compliance with Federal requirements should be included. Status, responsible person(s), and due dates should be included for each action item/outstanding issue. Action items requiring action or direction should be included in the quarterly status meeting agenda. The action items/outstanding issues may be dropped from this section upon full implementation of the remedial action, and upon no further monitoring anticipated.

4. Project Schedule.—An updated master program schedule reflecting the current status of the program activities should be included in this section. A Gantt (bar) type chart is probably the most appropriate for quarterly reporting purposes, with the ultimate format to be agreed upon between the grantee and the Government. It is imperative that the master program schedule be integrated, i.e., the individual contract milestones tied to each other, such that any delays occurring in one activity will be reflected throughout the entire program schedule, with a realistic completion date being reported. Narratives, tables, and/or graphs should accompany the updated master program schedule, basically detailing the current schedule status, delays and potential exposures, and recovery efforts. The following information should also be included:

• Current overall project completion percentage vs. latest plan percentage.

• Completion percentages vs. latest plan percentages for major activities such as right-of-way, major or critical design contracts, major or critical construction contracts, and significant force accounts or task orders. A schedule status description should also be included for each of these major or critical elements.

• Any delays or potential exposures to milestone and final completion dates. The delays and exposures should be quantified and overall schedule impacts assessed. The reasons for the delays and exposures should be explained, and initiatives being analyzed or implemented in order to recover the schedule should be detailed.

5. Project Cost.—An updated cost spreadsheet reflecting the current forecasted cost vs. the latest approved budget vs. the baseline budget should be included in this section. One way to track project cost is to show: (1) Baseline Budget, (2) Latest Approved Budget, (3) Current Forecasted Cost Estimate, (4) Expenditures or Commitments to Date, and (5) Variance between Current Forecasted Cost and Latest Approved Budget. Line items should include all significant cost centers, such as prior costs, right-of-way, preliminary engineering, environmental mitigation, general engineering consultant, section design contracts, construction administration, utilities, construction packages; force accounts/task orders, wrap-up insurance, construction contingencies, management contingencies, and other contingencies. The line items can be broken-up in enough detail such that specific areas of cost change can be sufficiently tracked and future improvements made to the overall cost estimating methodology. A Program Total line should be included at the bottom of the spreadsheet. Narratives, tables, and/or graphs should accompany the updated cost spreadsheet, basically detailing the current cost status, reasons for cost deviations, impacts of cost overruns, and efforts to mitigate cost overruns. The following information should be provided:

• Reasons for each line item deviation from the approved budget, impacts resulting from the deviations, and initiatives being analyzed or implemented in order to recover any cost overruns.

• Transfer of costs to and from contingency line items, and reasons supporting the transfers.

• Speculative cost changes that potentially may develop in the future, a quantified dollar range for each potential cost change, and the current status of the speculative change. Also, a comparison analysis to the available contingency amounts should be included, showing that reasonable and sufficient amounts of contingency remain to keep the project within the latest approved budget.

• Detailed cost breakdown of the general engineering consultant (GEC) services (if applicable), including such line items as contract amounts, task orders issued (amounts), balance remaining for tasks, and accrued (billable) costs.

• Federal obligations and/or TIFIA disbursements for the project, compared to planned obligations and disbursements.

6. Project Funding Status.—The purpose of this section is to provide a status report on the non-TIGER Discretionary Grant funds necessary to complete the project. This report section should include a status update of any legislative approvals or other actions necessary to provide the non-TIGER Discretionary Grant funds to the project. Such approvals might include legislative authority to charge user fees or set toll rates, or the commitment of local funding revenues to the project. In the event that there is an anticipated or actual project cost increase, the project funding status section should include a report on the anticipated or actual source of funds to cover the cost increase and any significant issues identified with obtaining additional funding.

7. Project Quality.—The purpose of this section is to: (1) Summarize the Quality Assurance/Quality Control activities during the previous month (reporting period), and (2) highlight any significant items identified as being deficient in quality. Deficient items noted should be accompanied by reasons and specifics concerning the deficiencies, and corrective actions taken or planned. In addition, the agency or firm responsible for the corrective action should be documented. Planned corrective actions should then be included as Action Items/Outstanding Issues.

8. Federal Financial Report (SF-425).—The Federal Financial Report (SF-425) is a financial reporting form used throughout the Federal Government Grant system. Grantees should complete this form and attach it to each quarterly Project Progress and Monitoring Report.

TIGER Discretionary Grant program grantees will submit an Annual Budget Review and Program Plan to the Government 60 days prior to the end of each Agreement year that they are receiving grant funds. Grantees should use the following structure when preparing the Annual Budget Review Report.

• Annual Budget Review Report

○ Frequency: Yearly (60 days before the end of the Agreement year).

○ Report covers: Upcoming Agreement year.

○ Start: 60 days before first anniversary of grant award.

○ End: Once construction is complete.

○ Format/Fields and accompanying instructions (beyond project ID information):

1. Detailed Schedule of Activities.—An updated master program schedule reflecting the current status of the program activities should be included in this section. A Gantt (bar) type chart is probably the most appropriate for annual reporting purposes.

2. Estimate of Specific Performance Objectives.—This section will discuss, what, if any performance objectives of the project will be achieved over the course of the upcoming Agreement Year and note any differences from the original project plan.

3. Forecasted Expenditures.—This section will discuss financial outlays that will occur in support of the project over the course of the upcoming Agreement Year and note any differences from the original project plan.

4. Schedule of Milestones for the Upcoming Agreement Year.—This section will discuss, what, if any project milestones will be achieved over the course of the upcoming Agreement Year and the obligations associated with each milestone, noting any differences from the original project plan.

If there are no proposed deviations from the Approved Detailed Project Budget, the Annual Budget Review shall contain a statement stating such. The grantee will meet with the Government to discuss the Annual Budget Review and Program Plan. If there is an actual or projected project cost increase, the annual submittal should include a written plan for providing additional sources of funding to cover the project budget shortfall or supporting documentation of committed funds to cover the cost increase. To the extent the annual budget update deviates from the approved project budget by more than 10 percent, then work proposed under the Annual Budget Review and Program Plan shall not commence until written approval from the Government is received.

TIGER Discretionary Grant program grantees will submit Performance Measure Reports on the performance (or projected performance) of the project using the performance measures that the grantee and the Government selected through negotiations.

• Performance Measurement Reports

○ Frequency: Quarterly (on the 20th of the first month of the calendar quarter).

○ Report covers: Previous quarter.

○ Start: Once, upon award of grant; Quarterly, once construction complete.

○ End: At the end of agreed upon performance measurement period.

○ Format/Fields and accompanying instructions (beyond project ID information):

1. Performance Measures Narrative.—Including a detailed description of data sources, assumptions, variability, and the estimated level of precision for each measure.

2. Performance Measures Spreadsheet.—Government and grantee will agree on the format of the spreadsheet for each individual project. Measures (to be negotiated between grantees and the Government, individually) may include, but are not limited to: Average tons handled/day; average daily gross ton-miles (GTM); average container lifts per day (TEUs); containers transported on lines (TEUs); transit passenger miles and hours of travel; transit passenger & non-passenger counts; transit rider characteristics; average bike and or pedestrian users at key locations; average daily traffic (ADT) and average daily truck traffic (ADTT); average daily total train delay (minutes); average daily total (all vehicles) vehicle delay at crossings; transit service level; facility service level; average hourly (or peak & off-peak) vehicle travel time; average hourly (or peak & off-peak) buffer index; annual crash rates by type/severity; average slow order miles and average daily delay minutes due to slow orders; bridge condition (Sufficiency Rating); road closure/lost capacity time (lane-hours).

Project Outcomes.—Detailing Project successes and/or the influence of external factors on Project expectations, including an ex post examination of project effectiveness in relation to the Pre-project Report baselines.

Background: On February 17, 2009, the President of the United States signed the Recovery Act to, among other purposes, (1) preserve and create jobs and promote economic recovery, (2) invest in transportation infrastructure that will provide long-term economic benefits, and (3) assist those most affected by the current economic downturn. The Recovery Act appropriated $1.5 billion of discretionary grant funds to be awarded by the Department of Transportation for capital investments in surface transportation infrastructure. The Department refers to these grants as “Grants for Transportation Investment Generating Economic Recovery” or “TIGER” Discretionary Grants. Funding for 51 projects totaling nearly $1.5 billion under the TIGER program was announced on February 17, 2010. Projects were selected based on their alignment with the selection criteria specified in the Federal Register notice for the TIGER Discretionary Grant program. On December 16, 2009 the President signed the FY 2010 Appropriations Act. The FY 2010 Appropriations Act appropriated $600 million for National Infrastructure Investments using language that is very similar, but not identical to the language in the Recovery Act authorizing the TIGER Discretionary Grants. The Department is referring to the grants for National Infrastructure Investments as TIGER Discretionary Grants. TIGER Discretionary Grants are for capital investments in surface transportation infrastructure and are to be awarded on a competitive basis for projects that will have a significant impact on the Nation, a metropolitan area, or a region. Funding for 72 projects totaling nearly $600 million under the TIGER program was announced on September 12, 2014. Projects were selected based on their alignment with the selection criteria specified in the Federal Register notice for the TIGER Discretionary Grant program. As announced in the Federal Register notices for TIGER Discretionary Grant programs, grantees are expected to provide information to the Government so that the Government may monitor the financial conditions and progress of projects, as well as the effectiveness of projects using performance measurement metrics negotiated between the grantees and the Government.

This request reinstates a previously approved information collection that is necessary to receive applications for grant funds, to evaluate the effectiveness of projects that have been awarded grant funds and to monitor project financial conditions and project progress.

The reporting requirements for the program are as follows:

Grantees will submit reports on the financial condition of the project and the project's progress. Grantees will submit progress reports and the Federal Financial Report (SF-425) to the Government on a quarterly basis, beginning on the 20th of the first month of the calendar-year quarter following the execution of a grant agreement, and on the 20th of the first month of each calendar-year quarter thereafter until completion of the project. The initial report will include a detailed description, and, where appropriate, drawings, of the items funded.

Grantees will also submit an Annual Budget Review and Program Plan to the Government via email 60 days prior to the end of each Agreement year that they are receiving grant funds. The Annual Budget Review and Program Plan will provide a detailed schedule of activities, estimate of specific performance objectives, include forecasted expenditures, and schedule of milestones for the upcoming year. If there is an actual or projected project cost increase, the Annual Budget Review will include a written plan for providing additional sources of funding to cover the project budget shortfall or supporting documentation of committed funds to cover the cost increase.

This information will be used to monitor grantees' use of Federal funds, ensuring accountability and financial transparency in the TIGER programs.

Grantees will also submit reports on the performance (or projected performance) of the project on performance measures that the grantee and the Government select through negotiations. The Grantees will submit a Pre-project Report that will consist of current baseline data for each of the performance measures specified in the Performance Measurement Table in the grant agreement negotiated between the grantee and the Government. The Pre-project Report will include a detailed description of data sources, assumptions, variability, and the estimated level of precision for each measure. The Grantees will submit interim Project Performance Measurement Reports to the Government for each of the performance measures specified in the Performance Measurement Table in the grant agreement negotiated between the grantee and the Government. Grantees will submit reports at each of the intervals identified for the duration of the time period specified in the Performance Measurement Table in the grant agreement negotiated between the grantee and the Government. The Grantees will submit a Project Outcomes Report after the project is completed that will consist of a narrative discussion detailing project successes and/or the influence of external factors on project expectations.

This information collected will be used to evaluate and compare projects and the monitor results that grant funds achieve, ensuring that grant funds achieved the outcomes targeted by the TIGER Discretionary Grant program.

Authority: The Paperwork Reduction Act of 1995; 44 U.S.C. Chapter 35, as amended; and 49 CFR 148.

Issued in Washington, DC on August 19, 2015.
Patricia Lawton,
DOT Paperwork Reduction Act Clearance Officer, Office of the Chief Information Officer.

[FR Doc. 2015-21337 Filed 8-27-15; 8:45 am]

BILLING CODE 4910-9X-P